DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of March 25, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Barber County, Kansas and Incorporated Areas
Docket No.: FEMA-B-2378
City of Hardtner | City Hall, 104 East Woodworth Avenue, Hardtner, KS 67057.
City of Hazelton | City Hall, 404 West Main Street, Hazelton, KS 67061.
City of Isabel | Barber County Courthouse, 120 East Washington Avenue, Medicine Lodge, KS 67104.
City of Kiowa | Barber County Courthouse, 120 East Washington Avenue, Medicine Lodge, KS 67104.
City of Medicine Lodge | City Hall, 114 West First Avenue, Medicine Lodge, KS 67104.
City of Sharon | Barber County Courthouse, 120 East Washington Avenue, Medicine Lodge, KS 67104.
City of Sun City | Barber County Courthouse, 120 East Washington Avenue, Medicine Lodge, KS 67104.
Unincorporated Areas of Barber County | Barber County Courthouse, 120 East Washington Avenue, Medicine Lodge, KS 67104.
Harper County, Kansas and Incorporated Areas
Docket No.: FEMA-B-2374
City of Anthony | Harper County Courthouse, 201 North Jennings Avenue, Anthony, KS 67003.
City of Attica | Harper County Courthouse, 201 North Jennings Avenue, Anthony, KS 67003.
City of Bluff City | Harper County Courthouse, 201 North Jennings Avenue, Anthony, KS 67003.
City of Danville | Harper County Courthouse, 201 North Jennings Avenue, Anthony, KS 67003.
City of Harper | Harper County Courthouse, 201 North Jennings Avenue, Anthony, KS 67003.
City of Waldron | Harper County Courthouse, 201 North Jennings Avenue, Anthony, KS 67003.
Unincorporated Areas of Harper County | Harper County Courthouse, 201 North Jennings Avenue, Anthony, KS 67003.
St. Louis County, Minnesota and Incorporated Areas
Docket No.: FEMA-B-2360
City of Aurora | City Hall, 16 West 2nd Avenue N, Aurora, MN 55705.
City of Babbitt | City Hall, 71 South Drive, Babbitt, MN 55706.
City of Biwabik | City Offices, 321 North Main Street, Biwabik, MN 55708.
City of Brookston | City Hall, 8757 1st Street S, Brookston, MN 55711.
City of Cook | City Hall, 127 South River Street, Cook, MN 55723.
City of Duluth | City Hall, 411 West 1st Street, Duluth, MN 55802.
City of Ely | City Hall, 209 East Chapman Street, Ely, MN 55731.
City of Floodwood | City Hall, 111 West 8th Avenue, Floodwood, MN 55736.
City of Hermantown | City Hall, 5105 Maple Grove Road, Hermantown, MN 55811.
City of Hibbing | City Hall, 401 East 21st Street, Hibbing, MN 55746.
City of Hoyt Lakes | Municipal Building, 206 Kennedy Memorial Drive, Hoyt Lakes, MN 55750.
City of Iron Junction | City Offices, 4141 Merrit Avenue, Iron Junction, MN 55751.
City of Meadowlands | Community Center, 7758 Western Avenue, Meadowlands, MN 55765.
City of Mountain Iron | City Hall, 8586 Enterprise Drive South, Mountain Iron, MN 55768.
City of Orr | City Hall, 4429 Highway 53, Orr, MN 55771.
City of Proctor | City Hall, 100 Pionk Drive, Proctor, MN 55810.
City of Rice Lake | Rice Lake City Hall, 4107 West Beyer Road, Duluth, MN 55803.
City of Tower | City Hall, 602 Main Street, Tower, MN 55790.
City of Virginia | City Hall, 327 South First Street, Virginia, MN 55792.
City of Winton | Community Center, 102 North Main Street, Winton, MN 55796.
Bois Forte Band of Chippewa | Boise Forte Band of Chippewa Tribal Government and Community Services Building, 5344 Lakeshore Drive, Nett Lake, MN 55772.
Fond du Lac Band of Lake Superior Chippewa | Fond du Lac Band of Lake Superior Chippewa Tribal Center, 1720 Big Lake Road, Cloquet, MN 55720.
Township of Gnesen | Gnesen Community Center, 6356 Howard Gnesen Road, Duluth, MN 55803.
Township of Lakewood | Lakewood Town Hall, 3110 Strand Road, Duluth, MN 55803.
Township of Midway | Midway Town Hall, 3230 Midway Road, Duluth, MN 55810.
Unincorporated Areas of St. Louis County | St. Louis County Courthouse, 100 North 5th Avenue W, Duluth, MN 55802.
Douglas County, Nebraska and Incorporated Areas
Docket No.: FEMA-B-2261
City of Bennington | City Hall, 15505 Warehouse Street, Bennington, NE 68007.
City of Omaha | Omaha-Douglas Civic Center, 1819 Farnam Street, Omaha, NE 68183.
City of Ralston | City Hall, 5500 South 77th Street, Ralston, NE 68127.
City of Valley | City Hall, 203 North Spruce Street, Valley, NE 68064.
Unincorporated Areas of Douglas County | Douglas County Environmental Services, 15335 West Maple Road, Suite 201, Omaha, NE 68116.
Village of Boys Town | Village Clerk, 14100 Crawford Street, Boys Town, NE 68010.
Village of Waterloo | Village Office, 509 South Front Street, Waterloo, NE 68069.
McIntosh County, North Dakota and Incorporated Areas
Docket No.: FEMA-B-2222 and FEMA-B-2362
City of Ashley | McIntosh County Courthouse, 112 1st Street NE, Ashley, ND 54813.
City of Lehr | McIntosh County Courthouse, 112 1st Street NE, Ashley, ND 54813.
City of Venturia | McIntosh County Courthouse, 112 1st Street NE, Ashley, ND 54813.
City of Wishek | McIntosh County Courthouse, 112 1st Street NE, Ashley, ND 54813.
City of Zeeland | McIntosh County Courthouse, 112 1st Street NE, Ashley, ND 54813.
Unincorporated Areas of McIntosh County | McIntosh County Courthouse, 112 1st Street NE, Ashley, ND 54813.
Chesterfield County, South Carolina and Incorporated Areas
Docket No.: FEMA-B-2371
Town of Cheraw | Town Hall, 200 Market Street, Cheraw, SC 29520.
Town of Chesterfield | Town Hall, 112 Main Street, Chesterfield, SC 29709.
Unincorporated Areas of Chesterfield County | Chesterfield County Administration Office, 178 Mill Street, Chesterfield, SC 29709.
Darlington County, South Carolina and Incorporated Areas
Docket No.: FEMA-B-2371
City of Darlington | City Hall, 400 Pearl Street, Darlington, SC 29532.
Unincorporated Areas of Darlington County | Darlington County Courthouse, 1 Public Square, Room 303, Darlington, SC 29532.
Florence County, South Carolina and Incorporated Areas
Docket No.: FEMA-B-2371
City of Florence | City Center, 324 West Evans Street, Florence, SC 29501.
Unincorporated Areas of Florence County | Florence County Planning and Building, 518 South Irby Street, Florence, SC 29501.
Spink County, South Dakota and Incorporated Areas
Docket No.: FEMA-B-2380
City of Ashton | City Hall, 14 Main Street, Ashton, SD 57424.
City of Conde | City Hall, 343 Broadway Street, Conde, SD 57434.
City of Doland | City Hall, 106 North 2nd Street, Doland, SD 57436.
City of Frankfort | City Hall, 404 Maple Street, Frankfort, SD 57440.
City of Redfield | City Hall, 626 Main Street, Redfield, SD 57469.
Town of Northville | Town Hall, 402 Thayer Street, Northville, SD 57465.
Town of Tulare | Community Hall, 112 Main Street, Tulare, SD 57476.
Town of Turton | Farmers State Bank, 123 East Center Street, Turton, SD 57477.
Unincorporated Areas of Spink County | Spink County Courthouse, 210 East 7th Avenue, Redfield, SD 57469.
Buckingham County, Virginia and Incorporated Areas
Docket No.: FEMA-B-2375
Unincorporated Areas of Buckingham County | Buckingham County Administration Building, 13380 West James Anderson Highway, Buckingham, VA 23921.

[FR Doc. 2024-27725 Filed 11-26-24; 8:45 am]

BILLING CODE 9110-12-P